DEPARTMENT OF HEALTH AND HUMAN SERVICES

Administration for Children and Families

[CFDA Number: 93.550]

Announcement of the Award of a Single-Source Expansion Supplement Grant to the Board of Trustees of the University of Illinois, Chicago, IL

AGENCY: Family and Youth Services Bureau (FYSB), ACYF, ACF, HHS

ACTION: Notice of the award of a single-source expansion supplement grant to the Board of Trustees of the University of Illinois, Chicago, IL. The award will expand the original scope of approved activities under 3/40 Blueprint: Creating the Blueprint to Reduce LGBTQ Youth Homelessness and will support the (1) review the findings of the systematic review of the literature conducted as part of the 3/40 Blueprint to identify (a) factors that facilitate positive outcomes for transgender youth in stable housing, education and employment, permanent connections, and well-being, and (2) interventions that may facilitate positive outcomes for transgender Runaway and Homeless Youth (RHY).

SUMMARY: The Administration for Children and Families (ACF), Administration on Children, Youth and Families (ACYF), Family and Youth Services Bureau (FYSB), Division of Runaway and Homeless Youth, announces the award of $150,000 as a single-source expansion supplement grant to the Board of Trustees of the University of Illinois, Chicago, IL, to support activities under the 3/40 Blueprint: Creating the Blueprint to Reduce LGBTQ Youth Homelessness. 3/40 Blueprint: Creating the Blueprint to Reduce LGBTQ Youth Homelessness has been reviewing research, gathering qualitative information, and collecting data to assist in building the capacity of Transitional Living Programs (TLPs) to meet the needs of runaway and homeless youth who identify as lesbian, gay, bisexual, transgender, and/or questioning (LGBTQ).

DATES: The period of support is September 30, 2015 through September 29, 2016.

FOR FURTHER INFORMATION CONTACT: Resa F. Matthew, Director, Division of Adolescent Development and Support, Family and Youth Services Bureau, 1250 Maryland Avenue SW., Washington, DC 20024; Telephone: (202) 401-5124; Email: resa.matthew@acf.hhs.gov.

SUPPLEMENTARY INFORMATION: The purpose of this grant is to assist in building the capacity of TLPs to serve youth who identify as lesbian, gay bisexual, transgender, and/or questioning (LGBTQ) and are experiencing homelessness. Through this demonstration grant, FYSB is solidifying its commitment to improving access to services that meet the unique needs of transgender homeless youth. The intent of the targeted supplement is to support knowledge development to strengthen efforts for better understanding and to address the needs of transgender youth experiencing homelessness. Efforts may include identifying innovative, transgender-specific intervention strategies, determining culturally appropriate screening and assessment tools, gathering information on services and systems of support that respond to the needs of the transgender youth, pinpointing the gaps in services, and better understanding the needs of transgender youth served by Runaway and Homeless Youth (RHY) agencies.

Specifically, this supplemental award will support the review of findings on the systematic review of the literature conducted as part of the 3/40 BLUEPRINT to identify factors that facilitate positive outcomes for transgender youth in stable housing, education and employment, permanent connections, and well-being interventions that may facilitate positive outcomes for transgender RHY.

Statutory Authority: Runaway and Homeless Youth Act, 42 U.S.C. 5701-5752, as most recently amended by the Reconnecting Homeless Youth Act, of 2008, Pub. L. 110-378 on October 8, 2008. Under Section 343, the Secretary may make grants to carry out research, evaluation, demonstration, and service projects regarding activities under this title designed to increase knowledge concerning, and to improve services for, runaway youth and homeless youth with a concentration on Transitional Living Programs.

Christopher Beach,
Senior Grants Policy Specialist, Division of Grants Policy, Office of Administration.

[FR Doc. 2016-01332 Filed 1-22-16; 8:45 am]

BILLING CODE 4182-33-P